ENVIRONMENTAL PROTECTION AGENCY

[FRL-6900-2; RIN 2060-AG85]

Waste Characterization Program Documents Applicable to Transuranic Radioactive Waste From the Savannah River Site for Disposal at the Waste Isolation Pilot Plant

AGENCY: Environmental Protection Agency.

ACTION: Notice of availability; opening of public comment period.

SUMMARY: The Environmental Protection Agency (EPA, or “we”) is announcing the availability of, and soliciting public comments for 30 days on, Department of Energy (DOE) documents applicable to characterization of transuranic (TRU) radioactive waste at the Savannah River Site proposed for disposal at the Waste Isolation Pilot Plant (WIPP). The documents are entitled: “Savannah River Site WIPP Disposal Program Quality Assurance Project Plan, WSRC-RP-99-01097,” “Savannah River Site WIPP Disposal Program Quality Assurance Program Document, WSRC-RP-99-01119,” and “Savannah River Site WIPP Disposal Program Waste Certification Plan, WSRC-RP-99-01095.” They are available for review in the public dockets listed in ADDRESSES. We will conduct an inspection of waste characterization systems and processes and the quality assurance program for waste characterization at the Savannah River Site to verify that the site can characterize transuranic waste in accordance with EPA's WIPP compliance criteria. We will perform this inspection during the weeks of November 6 and November 13, 2000. This notice of the inspection and comment period accords with 40 CFR 194.8.

DATES: EPA requests public comment on the documents. Comments must be received by EPA's official Air Docket on or before December 13, 2000.

ADDRESSES: Comments should be submitted to: Docket No. A-98-49, Air Docket, Room M-1500 (LE-131), U.S. Environmental Protection Agency, 1200 Pennsylvania Avenue, N.W., Washington, DC 20460. The DOE documents are available for review in the official EPA Air Docket in Washington, DC, Docket No. A-98-49, Category II-A2, and at the following three EPA WIPP informational docket locations in New Mexico: in Carlsbad at the Municipal Library, Hours: Monday-Thursday, 10 am-9 pm, Friday-Saturday, 10 am-6 pm, and Sunday 1 pm-5 pm; in Albuquerque at the Government Publications Department, Zimmerman Library, University of New Mexico, Hours: vary by semester; and in Santa Fe at the New Mexico State Library, Hours: Monday-Friday, 9 am-5 pm.

As provided in EPA's regulations at 40 CFR part 2, and in accordance with normal EPA docket procedures, if copies of any docket materials are requested, a reasonable fee may be charged for photocopying.

FOR FURTHER INFORMATION CONTACT: Scott Monroe, Office of Radiation and Indoor Air, (202) 564-9310, or call EPA's toll-free WIPP Information Line, 1-800-331-WIPP.

SUPPLEMENTARY INFORMATION:

Background

DOE operates the WIPP near Carlsbad in southeastern New Mexico as a deep geologic repository for disposal of TRU radioactive waste. As defined by the WIPP Land Withdrawal Act (LWA) of 1992 (Public Law 102-579), as amended (Public Law 104-201), TRU waste consists of materials containing elements having atomic numbers greater than 92 (with half-lives greater than twenty years), in concentrations greater than 100 nanocuries of alpha-emitting TRU isotopes per gram of waste. Much of the existing TRU waste consists of items contaminated during the production of nuclear weapons, such as rags, equipment, tools, and sludges.

On May 13, 1998, we announced our final compliance certification decision to the Secretary of Energy (published May 18, 1998, 63 FR 27354). This decision stated that the WIPP will comply with EPA's radioactive waste disposal regulations at 40 CFR part 191, subparts B and C.

The final WIPP certification decision includes conditions that: (1) prohibit shipment of TRU waste for disposal at WIPP from any site other than the Los Alamos National Laboratory (LANL) until EPA determines that the site has established and executed a quality assurance program, in accordance with §§ 194.22(a)(2)(i), 194.24(c)(3), and 194.24(c)(5) for waste characterization activities and assumptions (condition 2 of appendix A to 40 CFR part 194); and (2) prohibit shipment of TRU waste for disposal at WIPP from any site other than LANL until EPA has approved the procedures developed to comply with the waste characterization requirements of § 194.22(c)(4) (condition 3 of appendix A to 40 CFR part 194). EPA's approval process for waste generator sites is described in § 194.8. As part of our decision-making process, the DOE is required to submit to EPA appropriate documentation of quality assurance and waste characterization programs at each DOE waste generator site seeking approval for shipment of TRU radioactive waste to WIPP. In accordance with § 194.8, we will place such documentation in the official Air Docket in Washington, DC, and informational dockets in the State of New Mexico for public review and comment.

DOE has notified EPA that the Savannah River Site is preparing to ship waste to the WIPP. EPA will perform an inspection of the site's technical and quality assurance programs for waste characterization in accordance with Conditions 2 and 3 of the WIPP certification. The inspection is scheduled to take place the weeks of November 6 and November 13, 2000.

EPA has placed two documents pertinent to the inspection in the public docket described in ADDRESSES. The documents are entitled: (1) “Savannah River Site WIPP Disposal Program Quality Assurance Project Plan, WSRC-RP-99-01097,” (2) “Savannah River Site WIPP Disposal Program Quality Assurance Program Document, WSRC-RP-99-01119,” and (3) “Savannah River Site WIPP Disposal Program Waste Certification Plan, WSRC-RP-99-01095” (Item II-A2-28). In accordance with 40 CFR 194.8, as amended by the final certification decision, we are providing the public 30 days to comment on these documents.

If we determine as a result of the inspection that the proposed processes and programs at the Savannah River Site adequately control the characterization of transuranic waste, we will notify DOE by letter and place the letter in the official Air Docket in Washington, DC, as well as in the informational docket locations in New Mexico. A letter of approval will allow DOE to ship transuranic waste from the Savannah River Site to the WIPP. We will not make a determination of compliance prior to the inspection or before the 30-day comment period has closed.

Information on the certification decision is filed in the official EPA Air Docket, Docket No. A-93-02 and is available for review in Washington, DC, and at three EPA WIPP informational docket locations in New Mexico. The dockets in New Mexico contain only major items from the official Air Docket in Washington, DC, plus those documents added to the official Air Docket since the October 1992 enactment of the WIPP LWA.

Dated: October 30, 2000.
Robert Perciasepe,
Assistant Administrator for Air and Radiation.

[FR Doc. 00-28957 Filed 11-9-00; 8:45 am]

BILLING CODE 6560-50-P